OFFICE OF THE UNITED STATES TRADE REPRESENTATIVE

[Docket Number USTR-2024-0008]

Agency Information Collection Activities; Request for Comments—Reinstatement of the Collection of Information, 301 Exclusion Requests

AGENCY: Office of the United States Trade Representative.

ACTION: Notice and request for comments.

SUMMARY: The Office of the United States Trade Representative (USTR) is submitting a request to the Office of Management and Budget (OMB) to reinstate an information collection request (ICR) entitled 301 Exclusion Requests for three years under the Paperwork Reduction Act of 1995 (PRA) and its implementing regulations.

DATES: Submit comments no later than July 30, 2024.

ADDRESSES: USTR strongly prefers electronic submissions made through the Federal eRulemaking Portal: http://www.regulations.gov. See the submission instructions below. The Docket Number is USTR-2024-0008. For alternatives to on-line submissions, please contact the Section 301 hotline at (202) 395-5725 before transmitting a comment and in advance of the deadline.

FOR FURTHER INFORMATION CONTACT: Assistant General Counsel Rachel Hasandras at (202) 395-5725, or by email at mbx.ustr.301exclusions@ustr.eop.gov.

SUPPLEMENTARY INFORMATION:

A. Comments

Submit written comments and suggestions addressing one or more of the following:

(1) Whether the ICR is necessary for the proper performance of USTR's functions, including whether the information will have practical utility.

(2) The accuracy of USTR's estimate of the burden of the ICR, including the validity of the methodology and assumptions used.

(3) Ways to enhance the quality, utility and clarity of the ICR.

(4) Ways to minimize the burden of the ICR on those who are to respond, including through the use of appropriate automated, electronic, mechanical or other technological collection techniques or other forms of information technology.

B. Overview of This Information Collection

Title: 301 Exclusion Requests.

OMB Control Number: 0350-0015, which expired on January 31, 2023.

Form Number(s): 301 Exclusion Request/Response/Reply Form.

Description: Following a comprehensive review of the July 6, 2018 and the August 23, 2018 actions, as modified, in the Section 301 Investigation of China's Acts, Policies, and Practices Related to Technology Transfer, Intellectual Property, and Innovation, the U.S. Trade Representative determined, among other findings, to establish an exclusion process limited to machinery used in domestic manufacturing and under certain 8-digit tariff lines in Chapters 84 and 85 of the Harmonized Tariff Schedule of the United States (HTSUS). See 89 FR 46252 (May 28, 2024). A mockup of the 301 Exclusion Request/Response/Reply Form is attached as an annex to this notice.

OMB initially approved an information collection request for Section 301 Exclusion Requests on June 20, 2019, and assigned Control Number 0350-0015, which expired on December 31, 2019.

OMB approved a prior extension for this collection that expired in January 2023. USTR now is seeking to reinstate the expired collection and to extend the approval for three years.

Affected Public: U.S. stakeholders who want to request that certain enumerated subheadings under Chapters 84 and 85 of the HTSUS for machinery used in domestic manufacturing be excluded from the additional duties on products of China.

Frequency of Submission: One submission per request.

Respondent Universe: U.S. stakeholders.

Reporting Burden:

Total Estimated Responses: 5,000 requests to exclude a particular product. 1,000 responses in support or opposition to exclude a particular product.

Total Estimated Annual Burden: USTR estimates that preparing and submitting a request to exclude a particular product will take approximately 60 minutes, and the total time burden for the public to submit requests is 5,000 hours. USTR estimates that preparing and submitting a response to a product exclusion request will take approximately 30 minutes, and the total time burden for responses is approximately 500 hours.

USTR estimates that the cost to the Federal government to evaluate each request is 1.0 hours, for a total time burden of 5,300 hours and will cost about $150 per submission. The estimated total cost is $813,000. The total cost estimate includes the average annual salary plus benefits, for the federal employees and contractors expected to work on the exclusion process. The process is expected to continue on a rolling basis.

Status: After reviewing comments received in response to this notice, under the PRA and its implementing regulations, USTR plans to submit a request to OMB to reinstate the ICR for three years.

C. Requirements for Submissions

You must submit written comments by the deadline set forth in this notice. You must make all submissions in English via http://www.regulations.gov, using Docket Number USTR-2024-0008. USTR will not accept hand-delivered submissions. To make a submission using http://www.regulations.gov, enter the appropriate docket number in the `search for' field on the home page and click `search.' The site will provide a search-results page listing all documents associated with this docket. Find a reference to this notice by selecting `notice' under `document type' in the `filter results by' section on the left side of the screen and click on the link entitled `comment now.' The regulations.gov website offers the option of providing comments by filling in a `type comment' field or by attaching a document using the `upload file(s)' field. USTR prefers that you provide submissions in an attached document and note `see attached' in the `type comment' field on the online submission form. Include any data attachments to the submission in the same file as the submission itself, and not as separate files.

You will receive a tracking number upon completion of the submission procedure at http://www.regulations.gov. The tracking number is confirmation that regulations.gov received the submission. Keep the confirmation for your records. USTR is not able to provide technical assistance for the website. USTR may not consider documents you do not submit in accordance with these instructions. If you are unable to provide submissions as requested, please contact the Section 301 hotline at (202) 395-5725 before transmitting a comment and in advance of the deadline. General information concerning USTR is available at www.ustr.gov.

Juan Millan,
Acting General Counsel, Office of the United States Trade Representative.

BILLING CODE 3390-F4-P

[FR Doc. 2024-12003 Filed 5-30-24; 8:45 am]

BILLING CODE 3390-F4-C